DEPARTMENT OF ENERGY

Notice of Orders Issued Under Section 3 of the Natural Gas Act During February 2019

| FE Docket Nos.
Flint Hills Resources, LP | 15-168-LNG
Centra Gas Manitoba Inc | 19-06-NG
TAQA North Ltd | 18-132-NG
Vitol Inc | 19-10-NG; 18-80-NG
Gazprom Marketing & Trading USA Inc | 19-11-NG
Gulf LNG Energy, L.L.C | 19-09-LNG
CNOOC Marketing U.S.A. Inc | 19-07-NG; 18-60-NG
Edgemarc Energy Ohio, LLC | 19-08-NG; 18-92-NG
CFE International LLC | 19-12-NG

AGENCY: Office of Fossil Energy, Department of Energy.

ACTION: Notice of orders.

SUMMARY: The Office of Fossil Energy (FE) of the Department of Energy gives notice that during February 2019, it issued orders granting authority to import and export natural gas, to import and export liquefied natural gas (LNG), and vacating prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on March 18, 2019.
Amy Sweeney,
Director, Division of Natural Gas Regulation.

Appendix—DOE/FE Orders Granting Import/Export Authorizations
3809-A; 3829-A | 02/05/19 | 15-168-LNG | Flint Hills Resources, LP | Order 3809-A and Order 3829-A granting request to vacate Long-Term, Multi-Contract authorities to export LNG in ISO Containers or in Bulk Loaded at the Stabilis LNG Eagle Ford Facility in George West, Texas, and exported by vessel to Free Trade Agreement Nations and to Non-Free Trade Agreement Nations.
4339 | 02/05/19 | 19-06-NG | Centra Gas Manitoba Inc | Order 4339 granting blanket authority to import/export natural gas from/to Canada.
4275-A | 02/05/19 | 18-132-NG | TAQA North Ltd | Order 4275-A vacating authority to import natural gas from Canada.
4340; 4215-A | 02/13/19 | 19-10-NG; 18-80-NG | Vitol Inc | Order 4340 granting blanket authority to import/export natural gas from/to Canada/Mexico, and Order 4215-A vacating prior authority.
4341 | 02/13/19 | 19-11-NG | Gazprom Marketing & Trading USA Inc | Order 4341 granting blanket authority to import/export natural gas from/to Canada/Mexico.
4342 | 02/13/NG | 19-09-LNG | Gulf LNG Energy, L.L.C | Order 4342 granting blanket authority to import LNG from various international sources by vessel.
4343; 4193-A | 02/13/19 | 19-07-NG; 18-60-NG | CNOOC Marketing U.S.A. Inc | Order 4343 granting blanket authority to import/export natural gas from/to Canada/Mexico, and Order 4193-A vacating prior authority.
4344; 4226-A | 02/13/19 | 19-08-NG; 18-92-NG | Edgemarc Energy Ohio, LLC | Order 4344 granting blanket authority to export natural gas to Canada, and Order 4226-A vacating prior authority.
4345 | 02/13/19 | 19-12-NG | CFE International LLC | Order 4345 granting blanket authority to import/export natural gas from/to Mexico.

[FR Doc. 2019-05479 Filed 3-21-19; 8:45 am]

BILLING CODE 6450-01-P